DEPARTMENT OF COMMERCE

Census Bureau

Proposed Information Collection; Comment Request; Supplemental Questions Related to the Effects of the COVID-19 Pandemic on Businesses

AGENCY: U.S. Census Bureau, Commerce.

ACTION: Notice.

SUMMARY: The Department of Commerce, as part of its continuing effort to reduce paperwork and respondent burden and as required by the Paperwork Reduction Act of 1995, invites the general public and other Federal agencies to take this opportunity to comment on a proposed extension of the collection of information on the effects of the COVID-19 pandemic on the functioning of businesses through five Census Bureau surveys designated as Principal Federal Economic Indicators. The original collection was approved by the Office of Management and Budget on April 8, 2020 under the emergency approval provisions of the Paperwork Reduction Act.

DATES: To ensure consideration, written comments must be submitted on or before June 29, 2020.

ADDRESSES: Direct all written comments to Thomas Smith, PRA Liaison, U.S. Census Bureau, 4600 Silver Hill Road, Room 7K250A, Washington, DC 20233 (or via the internet at PRAcomments@doc.gov). You may also submit comments, identified by Docket Number USBC-2020-0009, to the Federal e-Rulemaking Portal: http://www.regulations.gov. All comments received are part of the public record. No comments will be posted to http://www.regulations.gov for public viewing until after the comment period has closed. Comments will generally be posted without change. All Personally Identifiable Information (for example, name and address) voluntarily submitted by the commenter may be publicly accessible. Do not submit Confidential Business Information or otherwise sensitive or protected information. You may submit attachments to electronic comments in Microsoft Word, Excel, or Adobe PDF file formats.

FOR FURTHER INFORMATION CONTACT: Requests for additional information or copies of the information collection instrument(s) and instructions should be directed to Stephanie Studds, Chief, Economic Indicators Division, EID—7K154, Washington, DC 20278 (or via the internet at stephanie.lee.studds@census.gov; via telephone at 301-763-2633).

I. Abstract

On April 8, 2020, The Office of Management and Budget (OMB) granted approval under the emergency approval provisions of the Paperwork Reduction Act (PRA) for the U.S. Census Bureau to immediately begin collecting information on the effects of the COVID-19 pandemic on the functioning of businesses. The questions were added to the following surveys designated as Principal Federal Economic Indicators:

Manufacturers' Shipments, Inventories & Orders (M3) Survey (OMB control number 0607-0008)

Building Permits Survey (OMB control number 0607-0094)

Monthly Wholesale Trade Survey (OMB control number 0607-0190)

Monthly Retail Surveys (OMB control number 0607-0717)

Quarterly Services Survey (OMB control number 0607-0907)

The added questions are designed to allow the Census Bureau to measure the impact of the COVID-19 Pandemic upon businesses. As Principal Federal Economic Indicators, each of these surveys produces timely and closely watched statistics about the health of the U.S economy. Given the importance of these indicator surveys and of the statistics they produce, it is imperative we measure to what extent businesses have been impacted in terms of their ability to maintain operations during this turbulent period.

For the Building Permits Survey, the following questions have been added:

In the last month, was this office unable to issue permits as a result of a closure, lack of staffing, or any other reason?

• Yes

• No

If yes:

In the last month, were permit backlogs caused as a result of a closure, lack of staffing, or any other reason?

• Yes

• No

If yes:

In the last month, were permit backlogs cleared by the end of the reporting month or delayed into a future month?

• Backlogs were cleared by the end of the reporting month

• Backlogs were delayed into a future month

For the remaining four surveys, one fixed question was added as follows:

During (month\quarter), did this business temporarily close any of its locations for at least one day?

Additionally, the following questions will be added to the four surveys on a rotating basis:

In general, how has this business been affected by COVID-19?

In the last month, has this business discontinued operations due to factors related to COVID-19?

In the last month, did this business pay wages or salaries to employees that did not work due to the impact of COVID-19 on this business?

In the last month, did one or more of this business's paid employees work remotely (telework)?

In your opinion, how much time do you anticipate will pass before this business returns to the level of operations before March 2020?

Did delays in this business's product shipments impact (insert month) inventories reported in Item XX?

Did this business experience any delays in its supply chain that impacted the value of (insert month) shipments reported in Item xx?

In the last month, did any of this business's locations adopt pickup/carry-out/delivery as their only means of providing goods and services to their customers?

Due to the need to begin collecting this information right away, we were unable to allow for the time periods normally required for clearance under the PRA. The approval granted by OMB is through October 31, 2020. This approval allows the Census Bureau to ask these questions on the regular collections of the above-mentioned surveys for 6 months. The Census Bureau now seeks to extend clearance for the COVID-19 supplemental questions for an additional three years. Currently, there is no way to anticipate an end to the impact of the COVID-19 pandemic on the economy. Therefore, the Census Bureau needs to be prepared for the possibility of collecting these data for an extended period of time.

II. Method of Collection

The COVID-19 questions will be collected in the same manner as the surveys on which they will appear. The primary method of collecting information in these surveys is electronically through our Centurion online reporting system. We deem this the most efficient and least burdensome way to collect the information.

III. Data

OMB Control Number: The emergency approval was assigned OMB control number 0607-1012. The Census Bureau may seek to extend this control number or to revise each of the surveys on which the COVID-19 questions appear. Those surveys are cleared under control numbers 0607-0008, 0607-0094, 0607-0190, 0607-0717, and 0607-0907.

Form Number(s): The COVID-19 questions appear on the collection forms utilized in each of the surveys in which they appear. There is no separate form number.

Type of Review: Regular submission.

Affected Public: Businesses.

Estimated Number of Respondents: 63,675.

Estimated Time per Response: 5 minutes.

Estimated Total Annual Burden Hours: 24,455.

Estimated Total Annual Cost to Public: $0. (This is not the cost of respondents' time, but the indirect costs respondents may incur for such things as purchases of specialized software or hardware needed to report, or expenditures for accounting or records maintenance services required specifically by the collection.)

Respondent's Obligation: Voluntary.

Legal Authority: Title 13 U.S.C. Sections 131 and 182.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
Department PRA Clearance Officer, Office of the Chief Information Officer, Commerce Department.

[FR Doc. 2020-08951 Filed 4-27-20; 8:45 am]

BILLING CODE 3510-07-P